DEPARTMENT OF AGRICULTURE

Submission for OMB Review; Comment Request

The Department of Agriculture will submit the following information collection requirement(s) to OMB for review and approval under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by January 8, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Livestock Slaughter.

OMB Control Number: 0535-0005.

Summary of Collection: The primary functions of the National Agricultural Statistics Service (NASS) are to prepare and issue State and national estimates of crop and livestock production, disposition, and prices and to collect information on related environmental and economic factors. Crop and livestock statistics help maintain a stable economic atmosphere and reduce risk for production, marketing, and distribution operations. The agricultural industry increasingly calls upon NASS to supply reliable, timely, and detailed information in its commodity estimation program. General authority for data collection activities is granted under U.S. Code title 7, section 2204(a). This statue specifies the “The Secretary of Agriculture shall procure and preserve all information concerning agriculture which he can obtain . . . by the collection of statistics . . . and shall distribute them among agriculturists”. Information from federally and non-federally inspected slaughter plants are used to estimate total red meat production. NASS will use a Federally and non-Federally-inspected livestock slaughter survey to collect data.

Need and Use of the Information: Information collected from both types of plants are combined to estimate total red meat production, consisting of the number of head slaughtered and live weights of cattle, calves, hogs, sheep/lambs, goats, and buffalo/bison. Knowing total red meat production, the number of head slaughtered, and live weights allows the industry to prepare and address issues related to supply and pricing. The data are also used at the end of the year to confirm production and disposition information for NASS livestock estimates made during the year.

Description of Respondents: Business or other for-profit.

Number of Respondents: 1,225.

Frequency of Responses: Reporting: Weekly, Monthly, Quarterly and Annually.

Total Burden Hours: 2,302.

National Agricultural Statistics Service

Title: Bee and Honey Survey.

OMB Control Number: 0535-0153.

Summary of Collection: The primary functions of the National Agricultural Statistics Service (NASS) are to prepare and issue State and national estimates of crop and livestock production, disposition, and prices, and to collect information on related environmental and economic factors. Crop and livestock statistics help maintain a stable economic atmosphere and reduce risk for production, marketing, and distribution operations. Modern agriculture increasingly calls upon NASS to supply reliable, timely, and detailed information through its commodity estimation program. As part of this function, estimates are made for honey production, stocks, and prices.

Domestic honeybees are critical to the pollination of U.S. crops, especially fruits, some nuts, vegetables, and some specialty crops. United States honey production in 2022 totaled 125 million pounds, down 1 percent from 2021. There were 2.67 million colonies producing honey in 2022, down 1 percent from 2021. Yield per colony averaged 47.0 pounds, unchanged from 2021. The survival of bees is threatened by parasites, diseases, and other factors. In many areas, the wild European honeybee population is virtually nonexistent. Federal, State and local governments provide programs to assist in the survival of honeybees and to encourage beekeepers to maintain honeybee colonies. The government to administer these programs uses honey production and price data.

General authority for these data collection activities is granted under U.S. Code title 7, section 2204. This statute specifies that “The Secretary of Agriculture shall procure and preserve all information concerning agriculture which he can obtain . . . by the collection of statistics . . . and shall distribute them among agriculturists.”

Need and Use of the Information: The bee and honey surveys are conducted in all States. These surveys collect data on the number of colonies each operation has, the amount of honey produced and the amount of honey stocks available for sale.

The Agricultural Research Service (ARS), State-level apiarists, and agricultural colleges throughout the U.S. use NASS bee and honey data to administer their honeybee research programs. Current research projects at ARS focus on colony collapse disorder, parasites, Africanized honeybees, foul brood disease, food safety and inspection (including honey), and other topics.

The Agricultural Marketing Service (AMS) uses NASS honey production data as control data for the administration of the research and promotion programs. The Honey Packers and Importers Research, Promotion, Consumer Education, and Industry Information Order (Order) [7 CFR part 1212] is authorized by the Commodity Promotion, Research, and Information Act of 1996 (1996 Act) [7 U.S.C. 7411-7425]. Under the Order, assessments are collected on honey and honey products packed or imported into the 50 states, Puerto Rico, and the District of Columbia. The funds collected are used by the National Honey Board for research and development, advertising and promotion of honey and honey products, consumer education, and industry information, under AMS supervision. The National Honey Board administers the research and promotion programs and reimburses the Federal government for the costs incurred in implementing and administering the program.

The Economic Research Service (ERS) uses NASS honey data to construct U.S. and per capita caloric sweetener consumption estimates. The data are used in the Sugar and Sweeteners Yearbook tables provided by ERS. The data are also utilized in the Situation and Outlook Report and the Food Consumption series, which are mandated by Congress. Economic data published in the Honey report is also used to prepare valuations related to pollinators.

The Farm Service Agency (FSA) uses NASS honey production data as source data. The Farm Security and Rural Investment Act of 2002 provides that the FSA administer the nonrecourse marketing assistance loan and loan deficiency payment (LDP) program for honey. The honey nonrecourse marketing assistance loan and LDP program provides eligible honey producers with two forms of Federal assistance. The program helps to stabilize America's honey industry and ensure the wellbeing of agriculture in the United States. Nonrecourse marketing assistance loans are administered by FSA on behalf of the Commodity Credit Corporation (CCC). The Food, Conservation, and Energy Act of 2008 (2008 Farm Bill) authorized the Emergency Assistance for Livestock, Honey Bees, and Farm-Raised Fish Program (ELAP). ELAP assistance covers some species, loss conditions, and losses that are not eligible for other disaster assistance programs, including colony collapse disorder. The Agriculture Improvement Act of 2018 (the 2018 Farm Bill) authorized the use of Commodity Credit Corporation funds for the Emergency Assistance for Livestock, Honeybees and Farm-Raised Fish Program (ELAP). ELAP provides emergency assistance to eligible producers of livestock, honeybees and farm-raised fish. It covers losses due to an eligible adverse weather or loss condition, including blizzards and wildfires, as determined by the Secretary of Agriculture. ELAP covers losses that are not covered under other disaster assistance programs authorized by the 2014 Farm Bill, such as the Livestock Forage Disaster Program (LFP) and the Livestock Indemnity Program (LIP).

The Risk Management Agency (RMA) is now offering a pilot insurance program for apiculture. This pilot program uses rainfall and vegetation greenness indices to estimate local rainfall and plant health, allowing beekeepers to purchase insurance protection against production risks. The program will use a 5-year average honey yield at the state level and the annual average honey price at the national level, both based on NASS data, to determine insurance payments.

The Pollinator Health Task Force uses data from the Honey Bee Colonies report to monitor honeybee colony losses during winter. Their goal, as laid out in the Pollinator Research Action Plan, is to reduce these losses to no more than 15 percent within 10 years. The Food and Drug Administration provided some background information on the importance of honeybees in an article they published in July 2018. “Honey bees are not native to the New World. Most crops grown in the U.S. are not New World natives either. Both the crops and the bees evolved together in other areas of the globe, and were brought here by European settlers. Information suggests that the first honeybee colonies arrived in the Colony of Virginia from England early in 1622.

Today, the commercial production of more than 90 crops relies on bee pollination. Of the approximately 3,600 bee species that live in the U.S., the European honeybee2 (scientific name Apis mellifera) is the most common pollinator, making it the most important bee to domestic agriculture. About one-third of the food eaten by Americans comes from crops pollinated by honey bees, including apples, melons, cranberries, pumpkins, squash, broccoli, and almonds, to name just a few. Without the industrious honey bee, American dinner plates would look quite bare.”

Description of Respondents: Businesses or other for-profits; Farms.

Number of Respondents: 12,225.

Frequency of Responses: Reporting: Quarterly; Annually.

Total Burden Hours: 7,920.

Levi S. Harrell,
Departmental Information Collection Clearance Officer.

[FR Doc. 2023-26894 Filed 12-6-23; 8:45 am]

BILLING CODE 3410-20-P